DEPARTMENT OF LABOR

Employment and Training Administration

Investigations Regarding Eligibility To Apply for Worker Adjustment Assistance

Petitions have been filed with the Secretary of Labor under Section 221 (a) of the Trade Act of 1974 (“the Act”) and are identified in the Appendix to this notice. Upon receipt of these petitions, the Director of the Office of Trade Adjustment Assistance, Employment and Training Administration, has instituted investigations pursuant to Section 221 (a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Office of Trade Adjustment Assistance, at the address shown below, not later than January 5, 2015.

Interested persons are invited to submit written comments regarding the subject matter of the investigations to the Director, Office of Trade Adjustment Assistance, at the address shown below, not later than January 5, 2015.

The petitions filed in this case are available for inspection at the Office of the Director, Office of Trade Adjustment Assistance, Employment and Training Administration, U.S. Department of Labor, Room N-5428, 200 Constitution Avenue NW., Washington, DC 20210.

Signed at Washington, DC this 11th day of December 2014.
Michael W. Jaffe,
Certifying Officer, Office of Trade Adjustment Assistance.

Appendix
[18 TAA petitions instituted between 12/1/14 and 12/5/14]
TA-W | Subject firm (petitioners) | Location | Date of institution | Date of petition
85679 | Stuart Manufacturing LLC (Workers) | Central Falls, RI | 12/02/14 | 12/01/14
85680 | Dixie Aerospace (Company) | Atlanta, GA | 12/02/14 | 12/01/14
85681 | Atmel Corporation (State/One-Stop) | Colorado Springs, CO | 12/02/14 | 12/01/14
85682 | BEHR Process Corporation (Workers) | Chesterfield, MO | 12/02/14 | 12/01/14
85683 | Hamilton Sundstrand, United Technologies Corporation (Company) | San Diego, CA | 12/03/14 | 12/02/14
85684 | Heritage Home (Workers) | Belding, MS | 12/03/14 | 12/02/14
85685 | Merkle-Korff Industries (Company) | Darlington, WI | 12/04/14 | 12/03/14
85686 | SCHOTT North America Inc. (Company) | Duryea, PA | 12/04/14 | 12/03/14
85687 | Moog Aircraft (Workers) | Salt Lake City, UT | 12/04/14 | 12/03/14
85688 | Beechcraft/Textron (State/One-Stop) | Wichita, KS | 12/04/14 | 12/03/14
85689 | Honeywell Aerospace (State/One-Stop) | Moorestown, NJ | 12/04/14 | 12/03/14
85690 | Apex Tool Group, LLC (Company) | Garland, TX | 12/04/14 | 12/03/14
85691 | Covidien (State/One-Stop) | North Haven, CT | 12/04/14 | 12/03/14
85692 | Honeywell (State/One-Stop) | Canton, MA | 12/04/14 | 11/20/14
85693 | Green Creek Wood Products (State/One-Stop) | Port Angeles, WA | 12/05/14 | 12/03/14
85694 | Tyco Fire Protection Products (State/One-Stop) | Westminster, MA | 12/05/14 | 12/04/14
85695 | ME Electmetal (State/One-Stop) | Duluth, MN | 12/05/14 | 12/04/14
85696 | Hewlett Packard (Workers) | Omaha, NE | 12/05/14 | 11/13/14

[FR Doc. 2014-30167 Filed 12-23-14; 8:45 am]

BILLING CODE 4510-FN-P